DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On April 17, 2019, OFAC determined that the property and interests in property subject to U.S. jurisdiction of the following persons are blocked under the relevant sanctions authority listed below.

Individual

1. ORTEGA MURILLO, Laureano Facundo (a.k.a. ORTEGA, Laureano); DOB 20 Nov 1982; POB Managua, Nicaragua; nationality Nicaragua; Gender Male; Passport A00000684 (Nicaragua) expires 26 Sep 2023; National ID No. 0012011820046M (individual) [NICARAGUA].

Designated pursuant to section 1(a)(iii) of Executive Order 13851 of November 27, 2018, “Blocking Property of Certain Persons Contributing to the Situation in Nicaragua” (E.O. 13851) for being an official of the Government of Nicaragua or having served as an official of the Government of Nicaragua at any time on or after January 10, 2007.

Entity

1. BANCO CORPORATIVO SA (a.k.a. “BANCO NACIONAL”; a.k.a. “BANCO NATIONAL”; a.k.a. “BANCORP”; a.k.a. “NATIONAL BANK”), 2 Cuadras Aloeste y 3 Cuadras Alnorte, Managua, Nicaragua; SWIFT/BIC BOFPNIMA [NICARAGUA].

Designated pursuant to Section 1(a)(iv)(B) of E.O. 13851 for having materially assisted, sponsored, or provided financial, material, or technological support for, or goods or services in support of, Rosario Maria Murillo De Ortega, a person whose property and interests in property are blocked pursuant to E.O. 13851; and pursuant to section 1(a)(iv)(A) of E.O. 13851 for having materially assisted, sponsored, or provided financial, material, or technological support for, or goods or services in support of, any transaction or series of transactions involving deceptive practices or corruption by, on behalf of, or otherwise related to the Government of Nicaragua or a current or former official of the Government of Nicaragua.

Dated: April 17, 2019.
Andrea Gacki,
Director, Office of Foreign Assets Control.

[FR Doc. 2019-10410 Filed 5-17-19; 8:45 am]

BILLING CODE 4810-AL-P